POSTAL REGULATORY COMMISSION

[Docket No. MC2022-46; Order No. 6122]

Mail Classification Schedule

AGENCY: Postal Regulatory Commission.

ACTION: Notice.

SUMMARY: The Commission is recognizing a recent Postal Service filing requesting the transfer of Post Office Box service at a small number of selected locations from the market dominant to the competitive product list. This notice informs the public of the filing, invites public comment, and takes other administrative steps.

DATES: Comments are due: April 29, 2022. Reply comments are due: May 13, 2022.

ADDRESSES: Submit comments electronically via the Commission's Filing Online system at https://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION: On March 16, 2022, the Postal Service filed a request under 39 U.S.C. 3642 and 39 CFR 3040.130, et seq. to transfer Post Office Box service at a small number of selected locations from the market dominant to the competitive product list.¹

¹ Request of the United States Postal Service to Transfer Post Office Box Service in Selected Locations to the Competitive Product List, March 16, 2022 (Request).

Background. The Commission has previously approved two Postal Service requests to transfer Post Office Box service from the market dominant product list to the competitive product list. By Order No. 473 ² and Order No. 780,³ the Commission approved the transfer of approximately 6,800 locations to the competitive product list. Request at 1. The Postal Service states that the requests were based upon whether the Post Office Box customers had sufficient access to private mailbox service providers. Id. The Postal Service further states that at the time of its requests, “it was conducting further evaluations of all Post Office Box locations and might in the future seek the transfer of additional locations, if warranted, as it develops its understanding of the mailbox service market.” Id. at 1-2 (footnote omitted). It further states that based on Commission approved criteria, it expanded the competitive service to one additional location in 2013, to 1,625 locations in 2014 and to 227 locations in 2021. Id. at 2.

² Docket No. MC2010-20, Order Approving Request to Transfer Selected Post Office Box Service Locations to the Competitive Product List, June 17, 2010 (Order No. 473).

³ Docket No. MC2011-25, Order Approving Request to Transfer Additional Post Office Box Service Locations to the Competitive Product List, July 29, 2011 (Order No. 780). The Request erroneously cites to Order No. 870 which relates to a different proceeding.

Having recently completed further evaluation of the criteria that indicate competitive status, the Postal Service requests the Commission to transfer an additional 297 locations from the market dominant to the competitive Post Office Box fee group. Id. The Postal Service requests the Commission to update the criteria applied to competitor locations to build upon the existing five-mile criterion and extend it by three miles to a range of eight miles. Id. The Request claims recent market research “shows customers are willing to travel longer distances for P.O. Box service than the current five-mile criterion recognizes.” Id. It notes that the request for 297 locations represent a very small proportion of the 32,788 locations offering Post Office Box service. Id.

Supporting materials. To support its Request, the Postal Service filed the following attachments:

• Attachment A—Resolution of the Governors of the United States Postal Service, Transfer of Selected Post Office Box Service Locations to the Competitive Product List, May 6, 2021 (Resolution No. 21-12);

• Attachment B—Statement of Supporting Justification; and

• Attachment C—Proposed Mail Classification Schedule Changes.

Notice of filings. The Commission establishes Docket No. MC2022-46 to consider the Postal Service's proposals described in its Request.

Interested persons may submit comments on whether the Request is consistent with the policies of 39 U.S.C. 3642, 39 CFR 3040.130 et seq., and the general provisions of title 39. Comments are due by April 29, 2022. Reply comments are due by May 13, 2022. The Request and related filings are available on the Commission's website (https://www.prc.gov). The Commission encourages interested persons to review the Request for further details.

The Commission appoints Eric D. Hughes to serve as Public Representative in this proceeding.

It is ordered:

1. The Commission establishes Docket No. MC2022-46 to consider the matters raised by the Postal Service's Request.

2. Pursuant to 39 U.S.C. 505, Eric D. Hughes is appointed to serve as an officer of the Commission (Public Representative) to represent the interests of the general public in this proceeding.

3. Comments by interested persons are due by April 29, 2022.

4. Reply comments are due by May 13, 2022.

5. The Secretary shall arrange for publication of this order in the Federal Register.

By the Commission.
Erica A. Barker,
Secretary.

[FR Doc. 2022-06145 Filed 3-22-22; 8:45 am]

BILLING CODE 7710-FW-P